DEPARTMENT OF COMMERCE

National Oceanic and Atmospheric Administration

Agency Information Collection Activities; Submission to the Office of Management and Budget (OMB) for Review and Approval; Comment Request; Coastal and Marine Ecological Classification Standard Solicitation for Revisions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 26, 2024.

ADDRESSES: Interested persons are invited to submit written comments to Adrienne Thomas, NOAA PRA Officer, at NOAA.PRA@noaa.gov. Please reference OMB Control Number 0648-0799 in the subject line of your comments. All comments received are part of the public record and will generally be posted on https://www.regulations.gov without change. Do not submit Confidential Business Information or otherwise sensitive or protected information.

FOR FURTHER INFORMATION CONTACT: Requests for additional information or specific questions related to collection activities should be directed to Matt Dornback, Environmental Scientist, NOAA Office for Coastal Management, 1305 East West Hwy., Silver Spring, MD 20910, 302-648-5717, and matt.dornback@noaa.gov.

SUPPLEMENTARY INFORMATION:

I. Abstract

This is a request for renewal of an approved information collection. NOAA's Office for Coastal Management (OCM) is proposing a renewal for information collection that allows interested parties to submit requests for revisions to update the Coastal and Marine Ecological Classification Standard (CMECS). CMECS was approved by the Federal Geographic Data Committee (FGDC) in August 2012 and provides a national standard for consistent descriptions of coastal and marine ecological features. The FGDC requires periodic reviews and maintenance of federal standards. Collection of information from users is critical to this process.

The primary uses of CMECS are in mapping and classifying the geological, physical, biological, and chemical components of the environment. Among other applications, the CMECS framework can be used to integrate data from disparate sources, facilitate comparisons among sites, and organize data for regional assessment. Since its publication in 2012, the CMECS has been used to characterize habitats ranging from coastal wetlands and estuaries to the deep ocean and at local to global scales. Benefits of CMECS include: data collected by different sensors and methods can be integrated into a single database; all the physical, biological, and chemical-forcing functions that collectively determine a habitat type can be captured; and the system has the flexibility to accommodate new units as additional information becomes available.

The CMECS was developed as a dynamic standard to allow periodic revisions to continue to meet the needs of the user community and as such, the CMECS can be updated to accommodate the requirements of evolving scientific practices, technology, and coastal and marine resource management. The review process allows the CMECS to retain its consistency, credibility, and rigor through periodic reviews and an orderly, authoritative, and transparent updating process as required by the Federal Geographic Data Committee. Anyone can propose changes, which can include minor edits, such as grammatical or typographical corrections, clarifications of definitions and meaning, or more substantial changes to the hierarchy within components. We are soliciting recommendations for revisions to the CMECS through a form to be posted on the CMECS website. All recommendations collected will be reviewed and revisions will be made to the CMECS to reflect those recommendations found to be valuable for implementation of the CMECS and supportive of the user community needs.

Information is compiled quarterly by the CMECS Implementation Working Group, an interagency group of CMECS technical experts. This information is used to assess needs for revisions to the CMECS. Information is not disseminated to the public.

II. Method of Collection

This information is collected by an electronic form posted on the CMECS website. However, we also accept paper format for anyone unable to access the form through the internet. Some follow up interviews may occur to better understand recommendations as needed.

III. Data

OMB Control Number: 0648-0799.

Form Number(s): None.

Type of Review: Regular (Extension of current information collection.)

Affected Public: Not-for-profit institutions; State, Local, or Tribal government; Federal government.

Estimated Number of Respondents: 100.

Estimated Time per Response: 1.

Estimated Total Annual Burden Hours: 100.

Estimated Total Annual Cost to Public: 0.

Respondent's Obligation: Voluntary.

Legal Authority: The FGDC requires periodic reviews and maintenance of federal standards. Collection of information from users is critical to this process.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-14005 Filed 6-25-24; 8:45 am]

BILLING CODE 3510-08-P